DEPARTMENT OF DEFENSE

Department of the Army

[Docket ID: USA-2008-0067]

Privacy Act of 1974; System of Records

AGENCY: Department of the Army, DoD.

ACTION: Notice to amend four systems of records.

SUMMARY: The Department of the Army is amending four systems of records notices in its existing inventory of record systems subject to the Privacy Act of 1974 (5 U.S.C. 552a), as amended.

DATES: This proposed action will be effective without further notice on October 31, 2008 unless comments are received that would result in a contrary determination.

ADDRESSES: Department of the Army, Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: September 23, 2008.
Patricia L. Toppings,
OSD Federal Register Liaison Officer, Department of Defense.

A0710-2a DALO

System name:

Property Officer Designation Files (February 22, 1993, 58 FR 10002).

Changes:

* * * * *

Authority for maintenance of the system:

Delete entry and replace with “10 U.S.C. 3013, Department of the Army; Army Regulation 710-2, Supply Policy Below the National Level and E.O. 9397 (SSN).”

* * * * *

Storage:

Delete entry and replace with “Paper records in file folders and electronic storage media.”

* * * * *

A0710-2a DALO

System name:

Property Officer Designation Files

System location:

Maintained at unit level of the Army. Official mailing addresses are published as an appendix to the Army's compilation of systems of records notices.

Categories of individuals covered by the system:

Individuals with formal responsibility for U.S. Government property.

Categories of records in the system:

Document appointing or relieving individuals as property officers.

Authority for maintenance of the system:

10 U.S.C. 3013, Department of the Army; Army Regulation 710-2, Supply Policy Below the National Level and E.O. 9397 (SSN).

Purpose(s):

To verify an individual's authority to assume responsibility for U.S. Government property.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the Army's compilation of systems of records notices also apply to this system.

Policies and practices for storing, retrieving, accessing, retaining, and disposing of records in the system:

Storage:

Paper records in file folders and electronic storage media.

Retrievability:

By appointee's surname.

Safeguards:

Records are maintained in locked cabinets accessible only to designated authorized personnel.

Retention and disposal:

Records are destroyed 2 years following individual's termination of appointment.

System manager(s) and address:

Deputy Chief of Staff for Logistics, Headquarters, Department of the Army, 500 Army Pentagon, Washington, DC 20310-0500.

Notification procedure:

Individuals seeking to determine whether information about themselves is contained in this system should address written inquiries to the office designating the individual as Property Officer.

For verification purposes, individual should provide full name, unit where assigned as Property Officer, and time period involved.

Record access procedures:

Individuals seeking access to information about themselves contained in this system should address written inquiries to the office designating the individual as Property Officer.

For verification purposes, individual should provide full name, unit where assigned as Property Officer, and time period involved.

Contesting record procedures:

The Army's rules for accessing records, and for contesting contents and appealing initial agency determinations are published in the Army Regulation 340-21; 32 CFR part 505; or may be obtained from the system manager.

Record source categories:

From the individual, his/her commander, Army records and reports.

Exemptions claimed for the system:

None.

A0710-2b DALO

System name:

Hand Receipt Files (February 22, 1993, 58 FR 10002).

Changes:

* * * * *

Authority for maintenance of the system:

Delete entry and replace with “10 U.S.C. 3013, Department of the Army; Army Regulation 710-2, Supply Policy Below the National Level and E.O. 9397 (SSN).”

* * * * *

Storage:

Delete entry and replace with “Paper records in file folders and electronic storage media.”

* * * * *

A0710-2b DALO

System name:

Hand Receipt Files

System location:

Property book offices and supply rooms at most Army activities world-wide.

Categories of individuals covered by the system:

Civilian or military personnel who assume temporary custody or responsibility for United States Government or other official property.

Categories of records in the system:

Individual receipts or listings reflecting acceptance of responsibility for items of property listed thereon.

Authority for maintenance of the system:

10 U.S.C. 3013, Department of the Army; Army Regulation 710-2, Supply Policy Below the National Level and E.O. 9397 (SSN).

Storage:

Paper records in file folders and electronic storage media.

Purpose(s):

To record property in use or in custody of individuals; to provide an audit trail for property accountability; to determine responsibility for lost, damaged, or stolen property.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the Army's compilation of systems of records notices also apply to this system.

Policies and practices for storing, retrieving, accessing, retaining, and disposing of records in the system:

Storage:

Paper records in file folders and electronic storage media.

Retrievability:

By individual's surname, Social Security Number, line number, size.

Safeguards:

Records are maintained in locked cabinets/areas accessible only to authorized personnel. Automated data are protected by administrative, physical, and technical safeguards required by Army Regulation 380-19.

Retention and disposal:

Record is maintained only while property is in use by or in the custody of an individual; destroyed on turn-in or upon complete accounting for the property, or when superseded by a new receipt or listing.

System manager(s) and address:

Deputy Chief of Staff for Logistics, Headquarters, Department of the Army, 500 Army Pentagon, Washington, DC 20310-0500.

Notification procedure:

Individuals seeking to determine whether information about themselves is contained in this system should address written inquiries to the activities issuing hand receipts.

Individual should provide his/her full name, installation at which a hand receipt holder, and any other may facilitate locating the record.

Record access procedures:

Individuals seeking access to information about themselves contained in this system should address written inquiries to the property book officer at the installation where record is believed to exist.

Individual should provide his/her full name, installation at which a hand receipt holder, and any other may facilitate locating the record.

Contesting record procedures:

The Army's rules for accessing records, and for contesting contents and appealing initial agency determinations are contained in Army Regulation 340-21; 32 CFR part 505; or may be obtained from the system manager.

Record source categories:

Hand receipt number on printed form or on property book.

Exemptions claimed for the system:

None.

A0710-2c DALO

System name:

Personal Property Accounting Files (February 22, 1993, 58 FR 10002).

Changes:

* * * * *

Authority for maintenance of the system:

Delete entry and replace with “10 U.S.C. 3013, Department of the Army; Army Regulation 710-2, Supply Policy Below the National Level and E.O. 9397 (SSN).”

* * * * *

Storage:

Delete entry and replace with “Paper records in file folders and electronic storage media.”

* * * * *

A0710-2c DALO

System name:

Personal Property Accounting Files

System location:

Maintained Army-wide in orderly rooms of troop units. Official mailing addresses are published as an appendix to the Army's compilation of systems of records notices.

Categories of individuals covered by the system:

Military individuals absent without leave or absent because of illness and confined to medical facilities.

Categories of records in the system:

Documents reflecting items of personal property of individuals listed in the preceding paragraph.

Authority for maintenance of the system:

10 U.S.C. 3013, Department of the Army; Army Regulation 710-2, Supply Policy Below the National Level and E.O. 9397 (SSN).

Purpose(s):

To identify and protect property belonging to soldiers who are absent without leave or absent because of illness and confined to medical facilities.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the Army's compilation of systems of records notices also apply to this system.

Policies and practices for storing, retrieving, accessing, retaining, and disposing of records in the system:

Storage:

Paper records in file folders and electronic storage media.

Retrievability:

By last name of individual owning the property.

Safeguards:

Records are maintained in locked cabinets accessible to authorized individuals having official need therefor.

Retention and disposal:

Records are maintained during an individual's absence and destroyed 2 years after his/her return.

System manager(s) and address:

Deputy Chief of Staff for Logistics, Headquarters, Department of the Army, 500 Army Pentagon, Washington, DC 20310-0500.

Notification procedure:

Individuals seeking to determine whether information about themselves is contained in this system should address written inquiries to the troop commanders.

For verification purposes, individuals should provide full name, Social Security Number, current address, telephone number, and dates and circumstances of the absence.

Record access procedures:

Individuals seeking access to information about themselves contained in this system should address written inquiries to or visit designated representatives of troop commanders holding the records.

For verification purposes, individuals should provide full name, Social Security Number, current address, telephone number, and dates and circumstances of the absence.

Contesting record procedures:

The Army's rules for accessing records, and for contesting contents and appealing initial agency determinations are published in the Army Regulation 340-21; 32 CFR part 505; or may be obtained from the system manager.

Record source categories:

From inventories and other Army records and reports.

Exemptions claimed for the system:

None.

A0710-2d DALO

System name:

Personal Clothing Record Files (February 22, 1993, 58 FR 10002).

Changes:

* * * * *

Authority for maintenance of the system:

Delete entry and replace with “10 U.S.C. 3013, Department of the Army; Army Regulation 710-2, Supply Policy Below the National Level and E.O. 9397 (SSN).”

* * * * *

Storage:

Delete entry and replace with “Paper records in file folders and electronic storage media.”

* * * * *

A0710-2d DALO

System name:

Personal Clothing Record Files

System location:

Maintained by Active Army training activities, National Guard Armories, and U.S. Army Reserve units.

Categories of individuals covered by the system:

All assigned personnel with military status.

Categories of records in the system:

Individual personal clothing records (DA Form 3078).

Authority for maintenance of the system:

10 U.S.C. 3013, Department of the Army; Army Regulation 710-2, Supply Policy Below the National Level and E.O. 9397 (SSN).

Purpose(s):

To reflect accountability for personal clothing by individual soldiers during their first six months of military service.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the Army's compilation of systems of records notices also apply to this system.

Policies and practices for storing, retrieving, accessing, retaining, and disposing of records in the system:

Storage:

Paper records in file folders and electronic storage media.

Retrievability:

By surname of individual concerned.

Safeguards:

Records are maintained in locked cabinets accessible only to authorized personnel having official need therefor.

Retention and disposal:

For active Army personnel, the record is destroyed when individual has been in service 6 months and has fulfilled his/her final showdown inspection as required by Army Regulation 710-2. For National Guard and U.S. Army Reserve personnel, the record is transferred with the Military Personnel Records Jacket on individual's completion of basic training.

System manager(s) and address:

Deputy Chief of Staff for Logistics, Headquarters, Department of the Army, 500 Army Pentagon, Washington, DC 20310-0500.

Notification procedure:

Individuals seeking to determine whether information about themselves is contained in this system should address written inquiries to the troop commanders.

Individual should provide his/her full name, Social Security Number, and current address and telephone number.

Record access procedures:

Individuals seeking access to information about themselves contained in this system should address written inquiries to the troop commanders.

Individual should provide his/her full name, Social Security Number, and current address and telephone number. Individual may review his/her record by visiting designated representatives of troop commanders.

Contesting record procedures:

The Army's rules for accessing records, and for contesting contents and appealing initial agency determinations are contained in Army Regulation 340-21; 32 CFR part 505; or may be obtained from the system manager.

Record source categories:

From the individual; DA Form 3078.

Exemptions claimed for the system:

None.

[FR Doc. E8-23012 Filed 9-30-08; 8:45 am]

BILLING CODE 5001-06-P